DEPARTMENT OF HOMELAND SECURITY

U.S. Customs and Border Protection

[Docket No. USCBP-2014-0012]

Advisory Committee on Commercial Operations of Customs and Border Protection (COAC)

AGENCY: U.S. Customs and Border Protection, Department of Homeland Security (DHS).

ACTION: Committee management; Notice of Federal advisory committee meeting.

SUMMARY: The Advisory Committee on Commercial Operations of Customs and Border Protection (COAC) will meet on May 22, 2014, in Miami, FL. The meeting will be open to the public.

DATES: COAC will meet on Thursday, May 22, from 1:00 p.m. to 5:00 p.m. EST. Please note that the meeting may close early if the committee has completed its business.

Pre-Registration: Meeting participants may attend either in person or via webinar after pre-registering using a method indicated below:

—For members of the public who plan to attend the meeting in person, please register either online at https://apps.cbp.gov/te_reg/index.asp?w=17; by email to tradeevents@dhs.gov; or by fax to 202-325-4290 by 5:00 p.m. EST on May 20, 2014.

—For members of the public who plan to participate via webinar, please register online at https://apps.cbp.gov/te_reg/index.asp?w=18 by 5:00 p.m. EST on May 20, 2014.

Feel free to share this information with other interested members of your organization or association.

Members of the public who are pre-registered and later require cancellation, please do so in advance of the meeting by accessing one (1) of the following links: https://apps.cbp.gov/te_reg/cancel.asp?w=17 to cancel an in person registration, or https://apps.cbp.gov/te_reg/cancel.asp?w=18 to cancel a webinar registration.

ADDRESSES: The meeting will be held at the Sofitel Miami at 5800 Blue Lagoon Drive, Monte Carlo Room II & III, Miami, FL 33126.

All visitors to the Sofitel Miami should proceed through the main lobby to Monte Carlo Room II & III. There will be signage posted directing visitors to the location of Monte Carlo Room II & III.

For information on facilities or services for individuals with disabilities or to request special assistance at the meeting, contact Ms. Wanda Tate, Office of Trade Relations, U.S. Customs and Border Protection at 202-344-1661 as soon as possible.

To facilitate public participation, we are inviting public comment on the issues to be considered by the committee prior to the formulation of recommendations as listed in the “Agenda” section below.

Comments must be submitted in writing no later than May 15, 2014, and must be identified by Docket No. USCBP-2014-0012, and may be submitted by one of the following methods:

• Federal eRulemaking Portal: http://www.regulations.gov. Follow the instructions for submitting comments.

• Email: Tradeevents@dhs.gov. Include the docket number in the subject line of the message.

• Fax: 202-325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments, go to http://www.regulations.gov and search for Docket Number USCBP-2014-0012. To submit a comment, see the link on the Regulations.gov Web site for “How do I submit a comment?” located on the right hand side of the main site page.

There will be multiple public comment periods held during the meeting on May 22, 2014. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. Appendix (Pub. L. 92-463). The COAC provides advice to the Secretary of Homeland Security, the Secretary of the Treasury, and the Commissioner of U.S. Customs and Border Protection (CBP) on matters pertaining to the commercial operations of CBP and related functions within DHS and the Department of the Treasury.

Agenda

The COAC will hear from the following project leaders and subcommittees on the topics listed below and then will review, deliberate, provide observations, and formulate recommendations on how to proceed on those topics:

1. The Trade Enforcement and Revenue Collection Subcommittee: Review and discuss the recommendations on the Intellectual Property Rights (IPR) Working Group's work to determine the feasibility of a Partnership Program for IPR; simplified process for managing small shipments; the application of the Document Imaging System as a tool for IPR authentication; and reintroduce the voluntary disclosure proposal and its utility for trade targeting. Review and discuss the report on the Bonds Working Group's discussions on the concept of e-bonds and centralization of Single Transaction Bonds.

2. The Trusted Trader Subcommittee: Review and discuss the action plan to establish the C-TPAT for exports component under the C-TPAT program. Review and discuss the subcommittee's additional comments pertaining to the Customs-Trade Partnership Against Terrorism (C-TPAT) criteria for exporters.

3. The One U.S. Government at the Border Subcommittee: Review and discuss the progress of the Import Mapping Working Group and potential collaboration with the Border Inter-Agency Executive Council (BIEC) External Engagement Committee's Import Subcommittee.

4. The Trade Modernization Subcommittee: Review and discuss the Role of the Broker Working Group's recommendation regarding Broker Permits and update on the Automated Commercial Environment (ACE) Development and Deployment Schedule.

5. The Export Subcommittee: Review and discuss creation of the Export Process Work Group (EPWG) and collaboration with the Border Inter-Agency Executive Council (BIEC) External Engagement Committee's Export Subcommittee.

Dated: April 30, 2014.
Maria Luisa Boyce,
Senior Advisor for Private Sector Engagement, Office of Trade Relations.

[FR Doc. 2014-10180 Filed 5-2-14; 8:45 am]

BILLING CODE 9111-14-P